FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 19, 2024.

A. Federal Reserve Bank of St. Louis (Holly A. Rieser, Senior Manager) P.O. Box 442, St. Louis, Missouri 63166-2034. Comments can also be sent electronically to Comments.applications@stls.frb.org:

1. The John W. Waller Revocable Trust, Paula J. Ray, trustee, both of Leasburg, Missouri; John T. Waller, Timothy S. Waller, and Matthew J. Waller, all of Sullivan, Missouri; and Cody J. Waller, Bourbon, Missouri; a group acting in concert, to retain voting shares of St. Clair Bancshares, Inc., and thereby indirectly retain voting shares of Farmers and Merchants Bank of St. Clair, both of St. Clair, Missouri.

B. Federal Reserve Bank of Kansas City (Jeffrey Imgarten, Assistant Vice President) One Memorial Drive, Kansas City, Missouri 64198-0001. Comments can also be sent electronically to KCApplicationComments@kc.frb.org:

1. Ryan Sullivan and Bryan Adams, both of Mission Hills, Kansas; to form the Sullivan/Adams control group, a group acting in concert, to acquire voting shares of Orrick Financial Corporation, and thereby indirectly acquire voting shares of The Bank of Orrick, both of Orrick, Missouri.

2. Charles Garrett, Tulsa, Oklahoma, as investment adviser to the NBC Bancshares Subtrust of the Drummond Family Trust dated 10/1/21; to become a member of the Drummond Family group, a group acting in concert, to retain voting shares of N.B.C. Bancshares in Pawhuska, Inc., and thereby indirectly retain voting shares of Blue Sky Bank, both of Pawhuska, Oklahoma.

3. Robert Gregory Kidd, Crystal Bay, Nevada; to acquire voting shares of Vast Holdings, Inc, and thereby indirectly acquire voting shares of Vast Bank, N.A., both of Tulsa, Oklahoma.

Board of Governors of the Federal Reserve System.
Ann E. Misback,
Secretary of the Board.

[FR Doc. 2023-28965 Filed 1-3-24; 8:45 am]

BILLING CODE P